INTERNATIONAL TRADE COMMISSION

[Investigation Nos. 701-TA-454 and 731-TA-1144 (Third Review) and 731-TA-1210-1212 (Second Review)]

Welded Stainless Steel Pressure Pipe From China, Malaysia, Thailand, and Vietnam

Determinations

On the basis of the record ¹ developed in the subject five-year reviews, the United States International Trade Commission (“Commission”) determines, pursuant to the Tariff Act of 1930 (“the Act”), that revocation of the countervailing duty order on welded stainless steel pressure pipe from China and the antidumping duty orders on welded stainless steel pressure pipe from China, Malaysia, Thailand, and Vietnam would be likely to lead to continuation or recurrence of material injury to an industry in the United States within a reasonably foreseeable time.

¹ The record is defined in § 207.2(f) of the Commission's Rules of Practice and Procedure (19 CFR 207.2(f)).

Background

The Commission instituted these reviews on November 1, 2024 (89 FR 87416) and determined on February 4, 2025, that it would conduct expedited reviews (90 FR 11182, March 4, 2025).

The Commission made these determinations pursuant to section 751(c) of the Act (19 U.S.C. 1675(c)). It completed and filed its determinations in these reviews on May 16, 2025. The views of the Commission are contained in USITC Publication 5624 (May 2025), entitled Welded Stainless Steel Pressure Pipe from China, Malaysia, Thailand, and Vietnam: Investigation Nos. 701-TA-454 and 731-TA-1144 (Third Review) and 731-TA-1210-1212 (Second Review).

By order of the Commission.
Issued: May 16, 2025.
Lisa Barton,
Secretary to the Commission.

[FR Doc. 2025-09110 Filed 5-20-25; 8:45 am]

BILLING CODE 7020-02-P